DEPARTMENT OF AGRICULTURE

Submission for OMB Review; Comment Request

June 14, 2012.

The Department of Agriculture has submitted the following information collection requirement(s) to OMB for review and clearance under the Paperwork Reduction Act of 1995, Public Law 104-13. Comments regarding (a) Whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Office of Advocacy and Outreach

Title: USDA/1890 National Scholars Program Application.

OMB Control Number: 0503-0015.

Summary of Collection: The USDA/1890 National Scholars Program is an annual recruiting effort by the USDA/1890 National Program Office and the participating eighteen 1890 Land-Grant Universities. This human capital initiative is a collective effort geared towards attracting graduating high school seniors and currently enrolled college students who are rising sophomores or juniors, into pursuing disciplines in agriculture, natural resources, and related sciences at any of the 1890 Land-Grant Universities. The USDA/1890 National Scholars Program offers scholarships to U.S. citizens who are seeking a bachelor's degree, in the fields of agriculture, food, or natural resources sciences and related majors, at one of the eighteen Historically Black Land-Grant Universities. Each applicant is required to submit a hard copy of the USDA/1890 National Scholars Program Application Form to the USDA/1890 Program Liaison assigned to the 1890 Land-Grant University to which they want to apply.

Need and Use of the Information: The information to be collected from the application includes the applicant name, address, educational background (grade point average, test scores), name of universities interested in attending, desired major, extracurricular activities, interest and habits. The information will be used to assist the selecting agencies in their process of identifying potential recipients of the scholarship. The program would not be able to function consistently without this annual collection.

Description of Respondents: Individuals or households.

Number of Respondents: 1,500.

Frequency of Responses: Reporting: Annually.

Total Burden Hours: 3,900.

Ruth Brown,
Departmental Information Collection Clearance Officer.

[FR Doc. 2012-14976 Filed 6-19-12; 8:45 am]

BILLING CODE 3410-88-P